ENVIRONMENTAL PROTECTION AGENCY

[EPA-HQ-OW-2007-0697; FRL-8450-2]

Office of Water; Notice of Availability and Comment Period for Draft Federal Geographic Data Committee (FGDC) Wetland Mapping Standard

AGENCY: Environmental Protection Agency (EPA).

ACTION: Notice of data availability and request for comment.

SUMMARY: Notice of Availability for a 90 Day Review and Comment Period is Hereby Given for the Draft Federal Geographic Data Committee's Wetland Mapping Standard.

This document provides Federal, State, Tribal and local wetland managers and others with information on what data to collect when mapping wetlands that will be uploaded to the National Wetland Inventory (NWI) and incorporated as part of the wetlands layer of the National Spatial Data Infrastructure (NSDI) in the USGS National Map. The intent of this standard is to support a consistent/seamless transition from traditional paper-based map products to technology-based mapping products and serve as the national standard for mapping wetland inventories for building the wetlands layer of the NSDI.

Although, this standard will not change the National Wetlands Inventory Data produced prior to its implementation, this standard specifies a core set of data quality components necessary to add to the National Wetlands Inventory in a way that is consistent and supports multiple uses of the data, while meeting the requirements of the National Spatial Data Infrastructure. This standard is based largely on the existing draft standard used by U.S. Fish and Wildlife Service in support of the NWI. The intent of the standard is to support current and future digital wetland mapping activities. The standard will provide specification of minimum data quality components for wetland mapping activities for inclusion into the NSDI that are funded or conducted by the Federal government. The National Wetlands Inventory digital wetland data serve as the foundation for the wetlands data layer of the NSDI. The standard balances the burden on the end-user community with the need for consistency and documented quality of digital mapping products. Additionally, this standard is created to coordinate wetland mapping with the National Hydrography Dataset, a national geospatial framework recognized by the Federal Geographic Data Committee (FGDC). Although this standard is structured to be extensible over time, the standard is deliberately developed with a forward-looking perspective to accommodate technology and map scale enhancements, assure its long-term usability, and minimize the need for revisions and updates over time.

This standard is intended for use by all Federal or federally-funded wetlands mapping projects including those activities conducted by Federal agencies, states, and federally recognized tribal entities, non-governmental organizations, universities, and others. Specifically, if Federal funding is used in support of wetlands inventory mapping activities, then use of this standard is mandatory. The adoption of the standard for all other wetlands inventory mapping efforts (non-federally funded) is strongly encouraged to maintain and expand the wetlands layer of the NSDI.

The FGDC Wetlands Subcommittee is soliciting information, data, and views on issues of science pertaining to the information contained in this draft FGDC data standard.

DATES: Scientific views, data, and information should be submitted by November 9, 2007.

ADDRESSES: You may submit comments, data, or views, identified by Docket ID No. EPA-HQ-OW-2007-0697, by one of the following methods:

• http://www.regulations.gov: Follow the on-line instructions for submitting information.

• E-mail: oei-docket@epa.gov.

• Mail: Environmental Protection Agency, 1200 Pennsylvania Ave., NW., Washington, DC 20460. Please include a total of four copies.

• Hand Delivery: EPA Docket Center (EPA/DC), EPA West, Room 3334, 1301 Constitution Ave., NW., Washington, DC 20460. Please include a total of four copies. Such deliveries are only accepted during the Docket's normal hours of operation, and special arrangements should be made for deliveries of boxed information.

Instructions: Direct your scientific information, data, or views, to Docket ID No. EPA-HQ-OW-2007-0697. EPA's policy is that all information received will be included in the public docket without change and may be made available online at http://www.regulations.gov, including any personal information provided, unless it includes information claimed to be Confidential Business Information (CBI) or other information whose disclosure is restricted by statute. Do not submit information that you consider to be CBI or otherwise protected through http://www.regulations.gov or ow-docket@epa.gov. The http://www.regulations.gov Web site is an “anonymous access” system, which means EPA will not know your identity or contact information unless you provide it in the body of your information. If you send an e-mail directly to EPA without going through http://www.regulations.gov your e-mail address will be automatically captured and included as part of the information that is placed in the public docket and made available on the Internet. If you submit information electronically, EPA recommends that you include your name and other contact information in the body of your information and with any disk or CD-ROM you submit. If EPA cannot read your information due to technical difficulties and cannot contact you for clarification, EPA may not be able to consider your information. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., information claimed to be CBI or other information whose disclosure is restricted by statute.

Certain other material, such as copyrighted material, will be publicly available only in hard copy. Publicly available docket materials are available either electronically in http://www.regulations.gov or in hard copy at the Water Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: Margarete Ann Heber, Wetland Division, Office of Wetlands, Oceans and Watersheds, U.S. EPA, 1200 Pennsylvania Ave., NW., Washington, DC 20460; phone (202) 566-1189; fax (202) 566-1349; e-mail Heber.Maragaret@epa.gov.

SUPPLEMENTARY INFORMATION:

I. General Information

A. Does This Action Apply to Me?

Entities potentially interested in today's notice are those that map wetlands and share that data with others.

Category | Examples of potentially affected entities
State/Local/Tribal Government | Federal Government, States, municipalities, tribes.
Industry | Builders, any entity sitting on a wetland.
Agriculture | Farmers.

This table is not intended to be exhaustive. Other types of entities not listed in the table may also be interested.

B. What Should I Consider as I Prepare my Scientific Information, Data or Views for EPA?

1. Submitting CBI. Do not submit CBI information to EPA through http://www.regulations.gov or e-mail. Clearly identify the specific information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for Preparing Your Information, Data, or Views. When submitting scientific information, data or views, please remember to:

• Identify the docket number and other identifying information (subject heading, Federal Register date and page number).

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible.

• Make sure to submit your information comments by the deadline identified.

C. How Can I Get Copies of the Draft Document and Related Information?

On the FGDC Website at: http://www.fws.gov/nwi/Final%20Draft%20Wetlands%20Mapping%20Standard%2003_26_07.pdf.

II. Today's Notice

A. Why Do We Need To Map Wetlands?

Currently, the wetland maps coverage of the United States is not complete. NWI is incomplete for about half the country. A mapping standard will allow any entity mapping wetlands to upload data to NWI using the same format. Wetlands are a critical ecological resource and in order to adequately manage them it is important to know what type of wetlands exist and where they are located. On a ten year cycle, the Fish and Wildlife Service produces reports to Congress on the status and trends of wetlands in the conterminous United States. These reports contain estimates of wetland losses and gains. A complete digital wetlands database will allow accurate calculation of wetland loss and gain to be made for specific areas. These digitial maps are also critical for looking at wetland loss and possible migration of wetlands in global climate change estimations.

B. How Was the Draft Standard Developed?

The Wetland Subcommittee of the FGDC convened a workgroup to develop this draft standard. Stakeholder representation from the Federal, State, non-profit, and private sectors was included in the development of this standard to ensure that the end-user information requirements are reflected in the final product. Development of the content of this standard began in June 2006 with a 3-day meeting of the workgroup comprised of members representing multiple Federal agencies and stakeholder groups. It was emphasized again that the standard would benefit from a wide vetting process targeting diverse members of the end-user community. Workgroup members and vetting participants, as well as workgroup activities are listed in Appendix H of the draft Standard.

C. What Is Included in the Draft Standard

1 Introduction

1.1 Background.

1.2 Objective.

1.3 Scope.

1.4 Applicability.

1.5 FGDC Standards and Other Related Practices.

1.6 Standard Development Procedures and Representation.

1.7 Maintenance Authority.

2 FGDC Requirements and Quality Components

2.1 Source Imagery.

2.2 Classification.

2.3 Accuracy.

2.3.1 TMU and Producers Accuracy.

2.3.2 Horizontal Accuracy.

2.4 Data Verification.

2.4.1 Logical Consistency.

2.4.2 Edge Matching.

2.4.3 Attribute Validity.

2.5 Datum and Projection.

2.6 Metadata.

References

Appendix A: Workgroup Recommendations to the FGDC.

Appendix B: Attributes for Wetland Classification.

Appendix C: Implementation Recommendations in Support of Section 2.0.

Appendix D: Known Issues with Existing Wetlands Mapping Data.

Appendix E: Polygon Lineage and Unique Identifiers.

Appendix F: Questions and Answers.

Appendix G: Definitions (Informative).

Appendix H: Workgroup Members, Vetting Participants, and Workgroup.

Activities

Table 1. Spatial Resolution Requirements of Source Imagery.

Table 2. Classification Levels Required Based on Habitat.

Table 3. TMU and Producer Accuracy Requirements.

Table 4. Horizontal Accuracy (RMSE) Requirements.

1 Introduction

1.1 Background.

1.2 Objective.

1.3 Scope.

1.4 Applicability.

1.5 FGDC Standards and Other Related Practices.

1.6 Standard Development Procedures and Representation.

1.7 Maintenance Authority.

2 FGDC Requirements and Quality Components

2.1 Source Imagery.

2.2 Classification.

2.3 Accuracy.

2.3.1 TMU and Producers Accuracy.

2.3.2 Horizontal Accuracy.

2.4 Data Verification.

2.4.1 Logical Consistency.

2.4.2 Edge Matching.

2.4.3 Attribute Validity.

2.5 Datum and Projection.

2.6 Metadata.

References

Appendix A: Workgroup Recommendations to the FGDC.

Appendix B: Attributes for Wetland Classification.

Appendix C: Implementation Recommendations in Support of Section 2.0.

Appendix D: Known Issues with Existing Wetlands Mapping Data.

Appendix E: Polygon Lineage and Unique Identifiers.

Appendix F: Questions and Answers.

Appendix G: Definitions (Informative).

Appendix H: Workgroup Members, Vetting Participants, and Workgroup.

Activities

Table 1. Spatial Resolution Requirements of Source Imagery.

Table 2. Classification Levels Required Based on Habitat Type.

1 Introduction

1.1 Background.

1.2 Objective.

1.3 Scope.

1.4 Applicability.

1.5 FGDC Standards and Other Related Practices.

1.6 Standard Development Procedures and Representation.

1.7 Maintenance Authority.

2 FGDC Requirements and Quality Components

2.1 Source Imagery.

2.2 Classification.

2.3 Accuracy.

2.3.1 TMU and Producers Accuracy.

2.3.2 Horizontal Accuracy.

2.4 Data Verification.

2.4.1 Logical Consistency.

2.4.2 Edge Matching.

2.4.3 Attribute Validity.

2.5 Datum and Projection.

2.6 Metadata.

References

Appendix A: Workgroup Recommendations to the FGDC.

Appendix B: Attributes for Wetland Classification.

Appendix C: Implementation Recommendations in Support of Section 2.0.

Appendix D: Known Issues with Existing Wetlands Mapping Data.

Appendix E: Polygon Lineage and Unique Identifiers.

Appendix F: Questions and Answers.

Appendix G: Definitions (Informative).

Appendix H: Workgroup Members, Vetting Participants, and Workgroup.

Activities

Table 1. Spatial Resolution Requirements of Source Imagery.

Table 2. Classification Levels Required Based on Habitat Type.

Table 3. TMU and Producer Accuracy Requirements.

Table 4. Horizontal Accuracy (RMSE) Requirements.

Dated: August 1, 2007.
David Evans,
Director, Wetlands Division.

[FR Doc. E7-15351 Filed 8-6-07; 8:45 am]

BILLING CODE 6560-50-P